DEPARTMENT OF ENERGY

Federal Energy Regulatory Commission

[Docket No. IC05-520-001; FERC-520]

Commission Information Collection Activities, Proposed Collection; Comment Request; Extension

September 2, 2005.

AGENCY: Federal Energy Regulatory Commission, DOE.

ACTION: Notice.

SUMMARY: In compliance with the requirements of section 3506(c)(2)(a) of the Paperwork Reduction Act of 1995 (Pub. L. 104-13), the Federal Energy Regulatory Commission (Commission) has submitted the information collection described below to the Office of Management and Budget (OMB) for review and extension of this information collection requirement. Any interested person may file comments directly with OMB and should address a copy of those comments to the Commission as explained below. The Commission received no comments in response to an earlier Federal Register notice of June 3, 2005 (70 FR 32596-97) and has made this notation in its submission to OMB.

DATES: Comments on the collection of information are due October 3, 2005.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at 202-395-4650. A copy of the comments should also be sent to the Federal Energy Regulatory Commission, Office of the Executive Director, ED-33, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC05-520-001.

Documents filed electronically via the Internet must be prepared in WordPerfect, MS Word, Portable Document Format, or ASCII format. To file the document, access the Commission's Web site at http://www.ferc.gov and click on “Make an E-filing,” and then follow the instructions for each screen. First-time users will have to establish a user name and password. The Commission will send an automatic acknowledgement to the sender's e-mail address upon receipt of comments. User assistance for electronic filings is available at (202) 502-8258 or by e-mail to efiling@ferc.gov. Comments should not be submitted to the e-mail address.

All comments may be viewed, printed or downloaded remotely via the Internet through FERC's homepage using the “eLibrary” link. Enter the docket number excluding the last three digits in the docket number field to access the document. For user assistance, contact FERCOlineSupport@ferc.gov or toll-free at (866) 208-3676 or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC-520 “Application for Authority to Hold Interlocking Directorate Positions.”

2. Sponsor: Federal Energy Regulatory Commission.

3. Control No.: 1902-0083.

The Commission is now requesting that OMB approve and extend the expiration date for an additional three years with no changes to the existing collection. The information filed with the Commission is mandatory.

4. Necessity of the Collection Information: Submission of the information is necessary for the Commission to carry out its responsibilities in implementing the statutory provision of Section 305(b) of the Federal Power Act (FPA) (16 U.S.C. 825d). The Commission implements these filing requirements in the Code of Federal Regulations (CFR) under 18 CFR part 45. Section 305(b) makes the holding of certain defined interlocking corporate positions unlawful unless the Commission has authorized the interlocks to the held and, requires the applicant to show in a form and manner as prescribed by the Commission, that neither public nor private interests will be adversely affected by the holding of the position.

Under part 45, each person that desires to hold interlocking positions must submit an application to the Commission for authorization, or if qualified, comply with the requirements for automatic authorization. The interlocking positions application requirements are set forth in Section 45.8; automatic authorization requirements are set forth in Section 45.9. In addition, a person already holding an existing authorized interlocking position, must apply for separate authorization under Section 45.4(a) when appointed to a new position within the same company. The information required under Part 45 generally identifies the applicant, describes the various interlocking positions the applicant seeks authorization to hold, provides information on the applicant's financial interests, other officers and directors of the firms involved, and the nature of the business relationships among the firms.

The Commission implements these filings requirements in the Code of Federal Regulations (CFR) under 18 CFR part 45.

5. Respondent Description: The respondent universe currently comprises 28 companies (on average) subject to the Commission's jurisdiction.

6. Estimated Burden: 1450 total hours, 28 respondents (average), 1 response per respondent, and 51.8 hours per response (average).

7. Estimated Cost Burden to respondents: 1,450 hours/2080 hours per years x $108,558 per year = $75,677. The cost per respondent is equal to $2,703.

Statutory Authority: Section 305(b) of the Federal Power Act (FPA) (16 U.S.C. 825d).

Magalie R. Salas,
Secretary.

[FR Doc. E5-4904 Filed 9-8-05; 8:45 am]

BILLING CODE 6717-01-P